DEPARTMENT OF TRANSPORTATION

Federal Aviation Administration

14 CFR Part 95

[Docket No. 31498; Amdt. No. 573]

IFR Altitudes; Miscellaneous Amendments

AGENCY: Federal Aviation Administration (FAA), Department of Transportation (DOT).

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, August 10, 2023.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg. 26, Room 217, Oklahoma City, OK 73099. Telephone: (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on July 7, 2023.
Thomas J. Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, August 10, 2023.

PART 95—IFR ALTITUDES

1. The authority citation for part 95 continues to read as follows:

Authority: 49 U.S.C. 106(g), 40103, 40113, and 14 CFR 11.49(b)(2).

2. Part 95 is amended to read as follows:

Revisions to IFR Altitudes & Changeover Point
[Amendment 573 effective date August 10, 2023]
From | To | MEA
Color Routes
§ 95.10 Amber Federal Airway A9 Is Amended To Delete
CHENA, AK NDB | EVANSVILLE, AK NDB | 5500
EVANSVILLE, AK NDB | BROWERVILLE, AK NDB | * 10000
* 9100—MOCA
§ 95.6 Blue Federal Airway B38 Is Amended To Delete
ELEPHANT, AK NDB | CHILL, AK FIX | 7300
CHILL, AK FIX | HAINES, AK NDB | 9000
§ 95.6 Blue Federal Airway B40 Is Amended To Delete
HAINES, AK NDB | U.S. CANADIAN BORDER | * 10000
* 9800—MOCA

From | To | MEA | MAA
§ 95.3000 Low Altitude RNAV Routes
§ 95.3331 RNAV Route T331 Is Amended by Adding
FONIA, ND FIX | ERUVE, ND FIX | 4200 | 17500
ERUVE, ND FIX | WELOG, ND FIX | * 5300 | 17500
* 3800—MOCA
WELOG, ND FIX | MINOT, ND VOR/DME | * 4000 | 17500
* 3500—MOCA
MINOT, ND VOR/DME | ORMIE, ND FIX | 3500 | 17500
ORMIE, ND FIX | BALTA, ND WP | * 3600 | 17500
* 3000—MOCA
BALTA, ND WP | CAREW, ND WP | 3400 | 17500
CAREW, ND WP | SCULY, ND WP | * 4000 | 17500
* 3100—MOCA
SCULY, ND WP | GICHI, ND WP | * 4000 | 17500
* 3000—MOCA
GICHI, ND WP | BISCA, ND WP | * 3500 | 17500
* 3000—MOCA
BISCA, ND WP | DITRE, ND FIX | 2800 | 17500
DITRE, ND FIX | GRAND FORKS, ND VOR/DME | * 3300 | 17500
* 2300—MOCA
GRAND FORKS, ND VOR/DME | ROPBO, MN FIX | 2600 | 17500
ROPBO, MN FIX | UGACU, MN FIX | 2700 | 17500
UGACU, MN FIX | THIEF RIVER FALLS, MN VOR/DME | 3000 | 17500
THIEF RIVER FALLS, MN VOR/DME | ZALSO, MN FIX | * 3500 | 17500
* 2700—MOCA
ZALSO, MN FIX | BLUOX, MN FIX | * 3300 | 17500
* 2800—MOCA
BLUOX, MN FIX | GECRE, MN FIX | * 4500 | 17500
* 3100—MOCA
GECRE, MN FIX | DULUTH, MN VORTAC | 3200 | 17500
DULUTH, MN VORTAC | VURLY, MN FIX | 3200 | 17500
VURLY, MN FIX | WEMAN, MN FIX | * 3300 | 17500
* 10000—MCA WEMAN, MN FIX, NE BND
WEMAN, MN FIX | SUZLI, MN FIX | * 10000 | 17500
* 2900—MOCA
SUZLI, MN FIX | HUDRU, MN FIX | * 10000 | 17500
* 2900—MOCA
HUDRU, MN FIX | BYPOR, MN FIX | * 10000 | 17500
* 3100—MOCA
BYPOR, MN FIX | MECNU, MN FIX | * 10000 | 17500
* 3400—MOCA
Is Amended To Read in Part
ESSOH, CA WP | PALISADES, CA VOR/DME | 11200 | 17500
PALISADES, CA VOR/DME | TRUCK, CA FIX | 11200 | 17500
§ 95.3470 RNAV Route T470 Is Added To Read
ALKAL, ID FIX | KINZE, ID FIX | 7400 | 17500
KINZE, ID FIX | VIPUC, ID FIX | * 7500 | 17500
* 8000—MCA VIPUC, ID FIX, E BND
VIPUC, ID FIX | IDECA, WY FIX | * 12900 | 17500
* 11700—MCA IDECA, WY FIX, W BND
IDECA, WY FIX | DEDNE, WY WP | 9800 | 17500
DEDNE, WY WP | DEKKR, WY WP | 10300 | 17500
DEKKR, WY WP | SWEAT, WY FIX | 10400 | 17500
SWEAT, WY | FIX CHOMP, WY FIX | 10200 | 17500
§ 95.3475 RNAV Route T475 Is Added To Read
BISMARCK, ND VOR/DME | ODUBY, ND FIX | 3700 | 17500
ODUBY, ND FIX | CHACE, ND WP | * 4000 | 17500
* 3400—MOCA
CHACE, ND WP | GICHI, ND WP | 4000 | 17500
|  | *

From | To | MEA
§ 95.6001 Victor Routes—U.S.
§ 95.6003 VOR Federal Airway V3 is Amended To Delete
OWENS, SC FIX | * VANCE, SC TACAN | 2000
* 13000—MCA VANCE, SC TACAN, NE BND
VANCE, SC TACAN | * FLORENCE, SC VORTAC | ** 13000
* 12000—MCA FLORENCE, SC VORTAC, SW BND
** 2000—GNSS MEA
#VANCE R-047 UNUSABLE, USE FLORENCE R-224
§ 95.6006 VOR Federal Airway V6 Is Amended To Read in Part
COLOM, CA FIX | PALISADES, CA VOR/DME | 11200
PALISADES, CA VOR/DME | * MUSTANG, NV VORTAC | 13000
* 11400—MCA MUSTANG, NV VORTAC, SW BND
§ 95.6016 VOR Federal Airway V16 Is Amended To Delete
RICHMOND, VA VORTAC | * TAPPA, VA FIX | 2000
* 5000—MCA TAPPA, VA FIX, NE BND
TAPPA, VA FIX | PATUXENT, MD VORTAC | * 5000
* 1500—MOCA
* 2000—GNSS MEA
PATUXENT, MD VORTAC | * GARED, MD WP | ** 4500
* 8000—MRA
** 1500—MOCA
** 4000—GNSS MEA
GARED, MD WP | CHOPS, MD WP | * 4500
* 1500—MOCA
* 4000—GNSS MEA
CHOPS, MD WP | SMYRNA, DE VORTAC | * 2000
* 1500—MOCA
CREAM, NY FIX | NORWICH, CT VOR/DME | 2500
NORWICH, CT VOR/DME | WOONS, RI FIX | 2500
WOONS, RI FIX | BOSTON, MA VOR/DME | 2000
§ 95.6023 VOR Federal Airway V23 Is Amended To Read in Part
BEIRA, CA FIX | * SHATA, CA FIX
| NW BND | ** 8000
| SE BND | ** 6500
* 8000—MCA SHATA, CA FIX, NW BND
** 5700—MOCA
§ 95.6033 VOR Federal Airway V33 Is Amended To Delete
HARCUM, VA VORTAC | * COLIN, VA FIX | ** 4000
* 10000—MCA COLIN, VA FIX, N BND
** 1600—MOCA
** 2000—GNSS MEA
COLIN, VA FIX | NOTTINGHAM, MD VORTAC | * 10000
* 1800—MOCA
* 2000—GNSS MEA
§ 95.6035 VOR Federal Airway V35 Is Amended To Read in Part
GLADE SPRING, VA VOR/DME | MACET, WV FIX | UNUSABLE
§ 95.6055 VOR Federal Airway V55 Is Amended To Read in Part
GRAND FORKS, ND VOR/DME | BEHQY, ND FIX | * 8000
* 3600—MOCA
BEHQY, ND FIX | BISMARCK, ND VOR/DME
| SW BND | 3900
| NE BND | 8000
§ 95.6066 VOR Federal Airway V66 Is Amended To Read in Part
RALEIGH/DURHAM, NC VORTAC | MEYER, NC FIX | 2600
MEYER, NC FIX | FRANKLIN, VA VORTAC | UNUSABLE
§ 95.6093 VOR Federal Airway V93 Is Amended To Delete
PATUXENT, MD VORTAC | GRACO, MD FIX | * 2500
* 1700—MOCA
GRACO, MD FIX | PALEO, MD FIX | * 10000
* 1600—MOCA
PALEO, MD FIX | BALTIMORE, MD VORTAC | * 2200
* 1700—MOCA
§ 95.6157 VOR Federal Airway V157 Is Amended To Delete
WAYCROSS, GA VORTAC | ALMA, GA VORTAC | #2000
#ALMA R-189 UNUSABLE USE WAYCROSS R-009.
ALMA, GA VORTAC | * LOTTS, GA FIX | ** 10000
* 11000—MRA
* 11000—MCA LOTTS, GA FIX, NE BND
** 2000—GNSS MEA
LOTTS, GA FIX | ALLENDALE, SC VOR | * 11000
* 1800—MOCA
* 2000—GNSS MEA
ALLENDALE, SC VOR | * VANCE, SC TACAN | ** 6000
* 13000—MCA VANCE, SC TACAN, NE BND
** 2000—GNSS MEA
VANCE, SC TACAN | * FLORENCE, SC VORTAC | #** 13000
* 12000—MCA FLORENCE, SC VORTAC, SW BND
** 2000—GNSS MEA
#VANCE R-047 UNUSABLE, USE FLORENCE R-224.
RICHMOND, VA VORTAC | * TAPPA, VA FIX | 2000
* 5000—MCA TAPPA, VA FIX, NE BND
TAPPA, VA FIX | PATUXENT, MD VORTAC | * 5000
* 1500—MOCA
* 2000—GNSS MEA
PATUXENT, MD VORTAC | * GARED, MD WP | ** 4500
* 8000—MRA
** 1500—MOCA
** 4000—GNSS MEA
GARED, MD WP | CHOPS, MD WP | * 4500
* 1500—MOCA
* 4000—GNSS MEA
CHOPS, MD WP | SMYRNA, DE VORTAC | * 2000
* 1500—MOCA
SMYRNA, DE VORTAC | WOODSTOWN, NJ VORTAC | * 1900
* 1500—MOCA
WOODSTOWN, NJ VORTAC | ROBBINSVILLE, NJ VORTAC | * 3000
* 2100—MOCA
§ 95.6169 VOR Federal Airway V169 Is Amended To Delete
BISMARCK, ND VOR/DME | DEVILS LAKE, ND VOR/DME | 4000
§ 95.6170 VOR Federal Airway V170 Is Amended To Delete
DEVILS LAKE, ND VOR/DME | JAMESTOWN, ND VOR/DME | 3500
§ 95.6171 VOR Federal Airway V171 Is Amended To Delete
GRAND FORKS, ND VOR/DME | ROSEAU, MN VOR/DME | 2900
§ 95.6213 VOR Federal Airway V213 Is Amended To Delete
HOPEWELL, VA VORTAC | * TAPPA, VA FIX | 2000
* 5000—MCA TAPPA, VA FIX, NE BND
TAPPA, VA FIX | PATUXENT, MD VORTAC | * 5000
* 1500—MOCA
* 2000—GNSS MEA
PATUXENT, MD VORTAC | * GARED, MD WP | ** 4500
* 8000—MRA
**1500—MOCA
** 4000—GNSS MEA
GARED, MD WP | CHOPS, MD WP | * 4500
* 1500—MOCA
* 4000—GNSS MEA
CHOPS, MD WP | SMYRNA, DE VORTAC | * 2000
* 1500—MOCA
§ 95.6229 VOR Federal Airway V229 Is Amended To Delete
PATUXENT, MD VORTAC | * GARED, MD WP | ** 4500
* 8000—MRA
** 1500—MOCA
** 4000—GNSS MEA
GARED, MD WP | DONIL, DE FIX | * 8000
* 1600—MOCA
* 4000—GNSS MEA
PANZE, NJ FIX | DIXIE, NJ FIX | 2500
DIXIE, NJ FIX | KENNEDY, NY VOR/DME | * 2500
* 1700—MOCA
KENNEDY, NY VOR/DME | KEEPM, NY FIX | 2000
KEEPM, NY FIX | TRANZ, NY FIX | 2000
TRANZ, NY FIX | PUGGS, NY WP | * 2500
* 2000—GNSS MEA
PUGGS, NY WP | BRIDGEPORT, CT VOR/DME | * 2500
* 2000—GNSS MEA
BRIDGEPORT, CT VOR/DME | HARTFORD, CT VOR/DME | 2000
§ 95.6260 VOR Federal Airway V260 Is Amended To Delete
CHARLESTON, WV VOR/DME | MONTS, WV WP | 3400
MONTS, WV WP | RAINELLE, WV VOR | 5100
RAINELLE, WV VOR | ROANOKE, VA VOR/DME | * 6000
* 5400—MOCA
ROANOKE, VA VOR/DME | GOOZE, VA FIX | 5000
GOOZE, VA FIX | LYNCHBURG, VA VOR/DME
| W BND | * 5000
| E BND | * 3000
* 2900—MOCA
LYNCHBURG, VA VOR/DME | FLAT ROCK, VA VORTAC | 3000
HOPEWELL, VA VORTAC | WAIKS, VA FIX | 3000
WAIKS, VA FIX | FRANKLIN, VA VORTAC | 3000
FRANKLIN, VA VORTAC | COFIELD, NC VORTAC | 1800
§ 95.6281 VOR Federal Airway V281 Is Amended by Adding
MOSES LAKE, WA VOR/DME | PASCO, WA VOR/DME | 4000
Is Amended To Delete
PASCO, WA VOR/DME | MOSES LAKE, WA VOR/DME | 4000
§ 95.6290 VOR Federal Airway V290 Is Amended by Adding
SHANE, WV FIX | MONTEBELLO, VA VOR/DME | 6500
Is Amended To Delete
RAINELLE, WV VOR | * MONTEBELLO, VA VOR/DME | 6500
* 6000—MCA MONTEBELLO, VA VOR/DME, SE BND
§ 95.6308 VOR Federal Airway V308 Is Amended To Delete
NOTTINGHAM, MD TACAN | * BILIT, MD WP | ** 6000
* 6000—MCA BILIT, MD WP, W BND
** 1600—MOCA
** 2000—GNSS MEA
BILIT, MD WP | WATERLOO, DE VOR/DME | * 2000
* 1500—MOCA
WATERLOO, DE VOR/DME | SEA ISLE, NJ VORTAC | * 2000
* 1500—MOCA
SEA ISLE, NJ VORTAC | AVALO, NJ FIX | * 4500
* 4000—GNSS MEA
AVALO, NJ FIX | HARBO, NJ FIX | * 6000
* 4000—GNSS MEA
HARBO, NJ FIX | * DRIFT, NJ FIX | ** 7500
* 6000—MRA
* 12000—MCA DRIFT, NJ FIX, NE BND
** 3000—GNSS MEA
DRIFT, NJ FIX | * MANTA, NJ FIX | ** 12000
* 12000—MCA MANTA, NJ FIX, SW BND
** 3000—GNSS MEA
MANTA, NJ FIX | PLUME, NJ FIX | * 7000
* 2000—MOCA
* 3000—GNSS MEA
PLUME, NJ FIX | * KOPPY, NY FIX | ** 4000
* 5000—MRA
** 3000—MOCA
** 3000—GNSS MEA
KOPPY, NY FIX | BEADS, NY FIX | * 4000
* 3000—MOCA
* 3000—GNSS MEA
BEADS, NY FIX | HAMPTON, NY VORTAC | * 2500
* 1600—MOCA
HAMPTON, NY VORTAC | GROTON, CT VOR/DME | 2000
GROTON, CT VOR/DME | NORWICH, CT VOR/DME | 2000
§ 95.6325 VOR Federal Airway V325 Is Amended To Read in Part
DALAS, GA FIX | CARAN, GA FIX | * 6000
* 3700—MOCA
* 5000—GNSS MEA
§ 95.6330 VOR Federal Airway V330 Is Amended To Delete
BOISE, ID VORTAC | CANEK, ID FIX
| NW BND | 7000
| SE BND | 9500
CANEK, ID FIX | ALKAL, ID FIX | * 9500
* 8500—MOCA
ALKAL, ID FIX | TORIN, ID FIX
| E BND | * 8000
| W BND | * 9500
* 6700—MOCA
TORIN, ID FIX | * KINZE, ID FIX | 8000
* 8000—MCA KINZE, ID FIX, W BND
§ 95.6338 VOR Federal Airway V338 Is Amended To Read in Part
LINDEN, CA VOR/DME | * HANGTOWN, CA VOR/DME | 5200
* 7200—MCA HANGTOWN, CA VOR/DME, N BND
HANGTOWN, CA VOR/DME | PALISADES, CA VOR/DME | 11200
§ 95.6392 VOR Federal Airway V392 Is Amended To Read in Part
HAGAN, CA FIX | * AUDIO, CA FIX | ** 6000
* 10000—MCA AUDIO, CA FIX, N BND
** 4700—MOCA
AUDIO, CA FIX | CONYO, CA FIX | * 10000
* 7300—MOCA
§ 95.6430 VOR Federal Airway V430 Is Amended To Delete
MINOT, ND VOR/DME | DEVILS LAKE, ND VOR/DME | 3600
DEVILS LAKE, ND VOR/DME | GRAND FORKS, ND VOR/DME | 3300
§ 95.6433 VOR Federal Airway V433 Is Amended To Delete
NOTTINGHAM, MD TACAN | SWANN, MD FIX | UNUSABLE
SWANN, MD FIX | ODESA, MD FIX | UNUSABLE
ODESA, MD FIX | DUPONT, DE VORTAC | * 2000
* 2000—GNSS MEA
* DUPONT R-233 UNUSABLE BEYOND 22NM
§ 95.6438 VOR Federal Airway V438 Is Amended To Read in Part
HAGERSTOWN, MD VOR | LUCKE, VA FIX | 3800
§ 95.6444 VOR Federal Airway V444 Is Amended To Read in Part
EMETT, ID FIX | * BOISE, ID VORTAC | 5900
* 10400—MCA BOISE, ID VORTAC, E BND
BOISE, ID VORTAC | AROWS, ID FIX
| W BND | 8000
| E BND | 17000
AROWS, ID FIX | SOLDE, ID FIX | * 17000
* 10300—MOCA
* 10300—GNSS MEA
SOLDE, ID FIX | * KINZE, ID FIX
| NW BND | 17000
| SE BND | 8200
* 15900—MCA KINZE, ID FIX, NW BND
§ 95.6494 VOR Federal Airway V494 Is Amended To Read in Part
HAGAN, CA FIX | * AUDIO, CA FIX | ** 6000
* 7600—MCA AUDIO, CA FIX, NE BND
** 4700—MOCA
AUDIO, CA FIX | PALISADES, CA VOR/DME | 11200
PALISADES, CA VOR/DME | * VIKES, NV FIX | 12000
* 10700—MCA VIKES, NV FIX, SW BND
§ 95.6500 VOR Federal Airway V500 Is Amended To Read in Part
PARMO, ID FIX | * BOISE, ID VORTAC
| E BND | 5400
| W BND | 15000
* 10400—MCA BOISE, ID VORTAC, E BND
BOISE, ID VORTAC | AROWS, ID FIX
| W BND | 8000
| E BND | 17000
AROWS, ID FIX | * REAPS, ID FIX | ** 17000
* 15400—MCA REAPS, ID FIX, W BND
** 10300—MOCA
** 10300—GNSS MEA
§ 95.6510 VOR Federal Airway V510 Is Amended To Read in Part
BISMARCK, ND VOR/DME | BEHQY, ND FIX
| SW BND | 3900
| NE BND | 8000
§ 95.6532 VOR Federal Airway V532 Is Amended To Read in Part
SALINA, KS VORTAC | LINCOLN, NE VORTAC | * 6000
* 3100—MOCA
§ 95.6578 VOR Federal Airway V578 Is Amended To Delete
PECAN, GA VOR/DME | TIFT MYERS, GA VOR | * 2500
* 2300—MOCA
TIFT MYERS, GA VOR | ALMA, GA VORTAC | * 3000
* 2100—MOCA
* 2100—GNSS MEA
ALMA, GA VORTAC | SAVANNAH, GA VORTAC | * 10000
* 2600—MOCA
* 3000—GNSS MEA
§ 95.6579 VOR Federal Airway V579 Is Amended To Delete
ST PETERSBURG, FL VORTAC | BAYPO, FL FIX | 2000
BAYPO, FL FIX | NITTS, FL FIX | * 4000
* 1500—MOCA
NITTS, FL FIX | GATORS, FL VORTAC
| S BND | * 4000
| N BND | * 3000
* 2100—MOCA
GATORS, FL VORTAC | CROSS CITY, FL VORTAC | 2000
CROSS CITY, FL VORTAC | VALDOSTA, GA VOR/DME | 2000
VALDOSTA, GA VOR/DME | TIFT MYERS, GA VOR | 2200
TIFT MYERS, GA VOR | VIENNA, GA VORTAC | 2100
§ 95.6615 VOR Federal Airway V615 Is Amended To Read in Part
RALEIGH/DURHAM, NC VORTAC | MEYER, NC FIX | 2600
MEYER, NC FIX | DUFFI, NC FIX | UNUSABLE
§ 95.6309 Alaska VOR Federal Airway V309 Is Amended To Read in Part
U.S. CANADIAN BORDER | ANNETTE ISLAND, AK VOR/DME | 5000
§ 95.6481 Alaska VOR Federal Airway V481 Is Amended To Read in Part
GULKANA, AK VOR/DME | DOZEY, AK FIX | 13000
DOZEY, AK FIX | PAXON, AK FIX | 13000
PAXON, AK FIX | BIG DELTA, AK VORTAC | * 13000
* 11500—MOCA
BIG DELTA, AK | VORTAC FORT YUKON, AK VORTAC | 13000
§ 95.6489 Alaska VOR Federal Airway V489 Is Amended To Delete
GALENA, AK VOR/DME | HORSI, AK FIX
| E BND | * 8000
| W BND | * 4000
* 4000—GNSS MEA
HORSI, AK FIX | ROSII, AK WP
| NE BND | * 6000
| SW BND | * 8000
* 4000—MOCA
ROSII, AK | WP TANANA, AK VOR/DME
| NE BND | 3400
| SW BND | 6000

Airway segment: From | Airway segment: To | Changeover points: Distance | Changeover points: From
§ 95.8003 VOR Federal Airway Changeover Points V157 Is Amended To Delete Changeover Points
ALMA, GA VORTAC | ALLENDALE, SC VOR | 58 | ALMA
VANCE, SC VORTAC | FLORENCE, SC VORTAC | 21 | VANCE
WOODSTOWN, NJ VORTAC | ROBBINSVILLE, NJ VORTAC | 19 | WOODSTOWN
V229 Is Amended To Delete Changeover Point
BRIDGEPORT, CT VOR/DME | HARTFORD, CT VOR/DME | 19 | BRIDGEPORT
V430 Is Amended To Delete Changeover Point
DEVILS LAKE, ND VOR/DME | MINOT, ND VOR/DME | 40 | DEVILS LAKE

[FR Doc. 2023-14944 Filed 7-14-23; 8:45 am]

BILLING CODE 4910-13-P